DEPARTMENT OF DEFENSE

Office of the Secretary

[Docket ID: DoD-2018-OS-0024]

Manual for Courts-Martial; Publication of Supplementary Materials

AGENCY: Joint Service Committee on Military Justice (JSC), Department of Defense.

ACTION: Publication of discussion and analysis (supplementary materials) accompanying the Manual for Courts-Martial, United States (2019 ed.) (MCM).

SUMMARY: The JSC hereby publishes Supplementary Materials accompanying the MCM as amended by Executive Order 13825. These changes have not been coordinated within the Department of Defense under DoD Directive 5500.1, “Preparation, Processing and Coordinating Legislation, Executive Orders, Proclamations, Views Letters and Testimony,” June 15, 2007, and do not constitute the official position of the Department of Defense, the Military Departments, or any other Government agency. These Supplementary Materials have been approved by the JSC and the General Counsel of the Department of Defense, and shall be applied in conjunction with the rule with which they are associated. The Discussions are effective insofar as the Rules they supplement are effective, but may not be applied earlier than the date of publication in the Federal Register.

DATES: These Supplementary Materials are effective as of January 1, 2019.

FOR FURTHER INFORMATION CONTACT: Lieutenant Commander Jennifer Luce, JAGC, USN (202) 685-7058 or jennifer.luce@navy.mil. The JSC website is located at: http://jsc.defense.gov.

SUPPLEMENTARY INFORMATION:

Public Comments: The JSC solicited public comments for these supplementary materials via the Federal Register on July 11, 2017 (82 FR 31952-31953, Docket ID: DoD-2017-OS-0032), held a public meeting on August 3, 2017, and published the JSC response to public comments via the Federal Register on May 23, 2018 (83 FR 23907-23908, Docket ID: DoD-DoD-2018-OS-0024).

Due to the length of the changes, they are being made available on the internet rather than being printed in the Federal Register. The supplementary materials are available at http://jsc.defense.gov.

Dated: November 30, 2018.
Shelly E. Finke,
Alternate OSD Federal Register Liaison Officer, Department of Defense.

[FR Doc. 2018-26787 Filed 12-10-18; 8:45 am]

BILLING CODE 5001-06-P